ENVIRONMENTAL PROTECTION AGENCY

40 CFR Part 751

[EPA-HQ-OPPT-2021-0277; FRL-8331-03-OCSPP]

C.I. Pigment Violet 29 (PV29); Regulation Under the Toxic Substances Control Act (TSCA); Reopening of Comment Period

AGENCY: Environmental Protection Agency (EPA).

ACTION: Proposed rule; reopening of comment period.

SUMMARY: In the Federal Register of January 14, 2025, EPA proposed a regulation to address the unreasonable risk of injury to human health presented by C.I. Pigment Violet 29 (CASRN 81-33-4, also known as PV29), under its conditions of use as documented in EPA's January 2021 Risk Evaluation for PV29 and the September 2022 Revised Risk Determination for PV29 prepared under TSCA. This document reopens the comment period, which is scheduled to end on February 28, 2025, for 60 days.

DATES: The comment period for the document published on January 14, 2025, at 90 FR 3107 (FRL-8331-02-OCSPP) is reopened. Comments must be received on or before April 29, 2025.

ADDRESSES: Submit your comments, identified by ID number EPA-HQ-OPPT-2021-0277, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information: Carolyn Mottley, Existing Chemicals Risk Management Division (7404M), Office of Pollution Prevention and Toxics, Environmental Protection Agency, 1200 Pennsylvania Ave. NW, Washington, DC 20460-0001; telephone number (202) 566-1955; email address: mottley.carolyn@epa.gov.

For general information: The TSCA-Hotline, ABVI-Goodwill, 422 South Clinton Ave., Rochester, NY 14620; telephone number: (202) 554-1404; email address: TSCA-Hotline@epa.gov.

SUPPLEMENTARY INFORMATION: To give stakeholders additional time to review materials and prepare comments, EPA is hereby reopening the comment period established in the Federal Register document of January 14, 2025, at 90 FR 3107 (FRL-8331-02-OCSPP) for 60 days, from February 28, 2025, to April 29, 2025. More information on the action can be found in the Federal Register of January 14, 2025.

To submit comments or access the docket, please follow the detailed instructions provided under ADDRESSES. If you have questions, consult the technical person listed under FOR FURTHER INFORMATION CONTACT.

List of Subjects in 40 CFR Part 751

Environmental protection, Chemicals, Export notification, Hazardous substances, Import certification, reporting and recordkeeping.

Authority: 15 U.S.C. 2605, 15 U.S.C. 2625(l)(4).

Dated: February 27, 2025.
Richard Keigwin,
Deputy Assistant Administrator, Office of Chemical Safety and Pollution Prevention.

[FR Doc. 2025-03515 Filed 2-28-25; 4:15 pm]

BILLING CODE 6560-50-P